DEPARTMENT OF DEFENSE

48 CFR Parts 202, 204, 211, 212, 219, 236, 237, 242, 245, 252, and Appendices F and G to Chapter 2

Defense Federal Acquisition Regulation Supplement; Technical Amendments

AGENCY: Department of Defense (DoD).

ACTION: Final rule.

SUMMARY: DoD is making technical amendments to the Defense Federal Acquisition Regulation Supplement to delete obsolete text and update activity names and addresses, titles, reference numbers, and paragraph designations.

EFFECTIVE DATE: October 1, 2001.

FOR FURTHER INFORMATION CONTACT: Ms. Michele Peterson, Defense Acquisition Regulations Council, OUSD(AT&L)DP(DAR), IMD 3C132, 3062 Defense Pentagon, Washington, DC 20301-3062. Telephone (703) 602-0311; facsimile (703) 602-0350.

List of Subjects in 48 CFR Parts 202, 204, 211, 212, 219, 236, 237, 242, 245, and 252

Government procurement.

Michele P. Peterson,
Executive Editor, Defense Acquisition Regulations Council.

Therefore, 48 CFR Parts 202, 204, 211, 212, 219, 236, 237, 242, 245, 252, and Appendices F and G to Chapter 2 are amended as follows:

1. The authority citation for 48 CFR parts 202, 204, 211, 212, 219, 236, 237, 242, 252, and Appendices F and G to subchapter I continues to read as follows:

Authority: 41 U.S.C. 421 and 48 CFR Chapter 1.

PART 202—DEFINITIONS OF WORDS AND TERMS

202.101 [Amended]

2. Section 202.101 is amended in the definition of “Contracting activity” as follows:

a. Under the heading “AIR FORCE”, by adding as the first entry, “Office of the Assistant Secretary of the Air Force (Acquisition)”; and

b. Under the heading “DEFENSE LOGISTICS AGENCY”, in the first entry, by removing “Procurement Management, Defense Logistics Support Command” and adding it its place “Logistics Policy and Acquisition Management”.

PART 204—ADMINISTRATIVE MATTERS

204.7205 [Amended]

3. Section 204.7205 is amended as follows:

a. In paragraph (a) by adding, immediately before the period, the parenthetical “(transferor)”; and

b. In paragraph (b) by revising the last parenthetical to read “(transferee)”.

PART 211—DESCRIBING AGENCY NEEDS

211.504 [Redesignated as 211.503]

4. Section 211.504 is redesignated as section 211.503.

PART 212—ACQUISITION ON COMMERCIAL ITEMS

212.301 [Amended]

5. Section 212.301 is amended in paragraph (f)(iii) by removing the parenthetical “(b)” and adding in its place “(a)”.

PART 219—SMALL BUSINESS PROGRAMS

219.1005 [Amended]

6. Section 219.1005 is amended as follows:

a. By redesignating paragraphs (a)(3)(A), (a)(3)(A)(1) through (4), and (a)(3)(B) as paragraphs (a)(i), (a)(i)(A) through (D), and (a)(ii), respectively; and

b. In newly designated paragraph (a)(ii) by removing “at FAR 19.1005(a)(3)” and adding in its place “in FAR subpart 19.10”.

PART 236—CONSTRUCTION AND ARCHITECT-ENGINEER CONTRACTS

7. Section 236.201 is amended by revising paragraphs (c)(1)(A)((1) and (c)(1)(B) to read as follows:

236.201 Evaluation of contractor performance.

* * * * *

(c) * * *

(1) * * *

(A) * * *

(1) Is operated by—U.S. Army Corps of Engineers, Portland District, ATTN: CENWP-CT-I, PO Box 2946, Portland, OR 97208-2946, Telephone: (503) 808-4590.

* * * * *

(B) For computer access to the files, contact the Portland District for user log-on and procedures.

* * * * *

236.206 [Amended]

8. Section 236.206 is amended by removing “212.204” and adding in its place “211.503”.

236.274 [Amended]

9. Section 236.274 is amended in paragraph (a) introductory text by adding, after “Pub. L. 105-45”, the phrase “and similar sections in subsequent military construction appropriations acts”.

PART 237—SERVICE CONTRACTING

10. Section 237.201 is amended by revising the section heading and the introductory text to read as follows:

237.210 Definition.

“Advisory and assistance services,” as used in this subpart, means services in the following three major categories when provided by nongovernmental sources (10 U.S.C. 2212):

* * * * *

PART 242—CONTRACT ADMINISTRATION AND AUDIT SERVICES

242.202 [Amended]

11. Section 242.202 is amended in paragraph (e)(1)(A) in the first sentence, in the parenthetical, by removing “dcmc.hq.dla” and adding in its place “dcma”.

242.302 [Amended]

12. Section 242.302 is amended in paragraph (a)(13)(B)(1) in the last parenthetical by removing “dcmc.hq.dla” and adding in its place “dcma.”

PART 245—GOVERNMENT PROPERTY

245.302-1 [Amended]

13. Section 245.302-1 is amended in paragraph (a)(4)(C)(2) in the last sentence by removing “Fiscal Year 19_,” and adding in its place “FY_”; and by removing “which” and adding in its place “that”.

PART 252—SOLICITATION PROVISIONS AND CONTRACT CLAUSES

14. Section 252.211-7005 is amended by revising the clause date and the last sentence of paragraph (b) to read as follows:

252.211-7005 Substitutions for Military or Federal Specifications and Standards.

* * * * *

Substitutions for Military or Federal Specifications and Standards (OCT 2001)

* * * * *

(b) * * * A listing of SPI processes accepted at specific facilities is available via the Internet in Excel format at http://www.dcma.mil/onebook/0.0/0.2/reports/modified/xls.

* * * * *

252.227-7005 [Amended]

15. Section 252.227-7005 is amended as follows:

a. After the title “LICENSE TERM” by removing “(AUG 1984)” and adding in its place “(OCT 2001)”;

b. In Alternate II by removing “(AUG 1984)” and adding in its place “(OCT 2001)”; and

c. In Alternate II by removing “___19__” and adding in its place “___, __”.

252.237-7000 [Amended]

16. 252.237-7000 is amended in the introductory text by removing “237.203-70” and adding in its place “237.270”.

252.239-7000 [Amended]

17. Section 252.239-7000 is amended in the introductory text by removing the parenthetical “(a)”.

252.247-7011 [Amended]

18. Section 252.247-7011 is amended as follows:

a. By revising the clause date to read “(OCT 2001)”; and

b. In paragraph (a) in the first sentence by removing “19_” both places it appears and adding in its place “__”.

Appendix F—Material Inspection and Receiving Report

F-105 [Removed]

19. In Appendix F to Chapter 2, Section F-105 is removed.

Appendix G—Activity Address Numbers

20. Appendix G to Chapter 2 is amended in Part 4 by adding, in alpha-numerical order, a new entry “M62974” to read as follows:

Part 4—Marine Corps Activity Address Numbers

* * * * *

M62974 | Marine Corps Air Station, PO Box 99133, Station S-4/3KG, Yuma, AZ 85369-9133
* * * * *

1. Appendix G to Chapter 2 is amended in Part 5 as follows:

a. By revising entry “F33615”;

b. By adding, in alpha-numerical order, a new entry “F33660”;

c. In the entry “FA0021” by removing “PKMZ” and adding in its place “LGCQ”; and

d. By adding, in alpha-numerical order, a new entry “FA7046” to read as follows:

PART 5—AIR FORCE ACTIVITY ADDRESS NUMBERS

* * * * *
F33615SG | Det 1 AFRL/PK, Building 167, 2310 8th Street, Wright Patterson AFB, OH 45433-7801
* * * * *
F33660, FY2333 | AFMETCAL Det 1/MLK, 813 Irving Wick Drive West, Building 2, Heath, OH 43056-6116
* * * * *
FA7046 | Air Force Operational Test and Evaluation Center, 8500 Gibson Boulevard SE, Kirtland AFB, NM 87117-5558
* * * * *

[FR Doc. 01-24391 Filed 9-28-01; 8:45 am]

BILLING CODE 5000-04-M